DEPARTMENT OF ENERGY

Federal Energy Regulatory Commission

[Docket No. EC00-133-000]

American National Power, Inc.; Notice of Filing

September 27, 2000.

Take notice that on September 20, 2000, American National Power, Inc. (ANP) filed additional information with the Federal Energy Regulatory Commission (Commission) to supplement its filing of September 1, 2000, in this proceeding. The additional information provided in the supplement is in fulfillment of the Exhibit H filing requirement set forth in Section 33.3 of the Commission's Rules and Regulations (18 CFR 33.3). ANP also requests that the supplemental material be given confidential treatment and withheld from public disclosure pursuant to 18 CFR 388.112.

Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions and protests should be filed on or before October 5, 2000. Protests will be considered by the Commission in determining the appropriate action to be taken, but will not serve to make protestants parties to the proceedings. Any person wishing to become a party must file a motion to intervene. Copies of this filing are on file with the Commission and are available for public inspection. This filing may be viewed on the Internet at http://www.ferc.fed.us/online/rims.htm (call 202-208-2222 for assistance).

Linwood A. Watson, Jr.,
Acting Secretary.

[FR Doc. 00-25310 Filed 10-2-00; 8:45 am]

BILLING CODE 6717-01-M